DEPARTMENT OF ENERGY

International Energy Agency Meeting

AGENCY: Department of Energy.

ACTION: Notice of meeting.

SUMMARY: The Industry Advisory Board (IAB) to the International Energy Agency (IEA) will meet on December 9-10, 2002, at the Chinese State Development Planning Commission in Beijing, China.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the Chinese State Development Planning Commission, 38 Yuetannanjie, Xicheng District, Beijing, China 100824 on December 9 and 10, 2002, commencing at 9 a.m. on December 9. The purpose of this notice is to permit attendance by representatives of U.S. company members of the IAB at a meeting of the IEA's China Seminar on Oil Stocks and Emergency Response, which is scheduled to be held at the same time and location. The Agenda for the meeting is under the control of the IEA. It is expected that the IEA will adopt the following Agenda:

Monday, December 9, 2002

I. Introduction

II. Opening Remarks and Keynote Speeches

—Opening Remarks—Mr. Zhang Guobao, Vice-Chairman, SDPC

—Opening Remarks—Amb. William Ramsay, Deputy Executive Director, IEA

—China's Energy Security Challenges and Progress in Meeting Them

—Oil Emergency Challenges: Introduction and Video Presentation of a Hypothetical Disruption Scenario

III. IEA Oil Security Policies and Procedures

—Overview of IEA Oil Emergency Response Policies

—An Industry Perspective on IEA Oil Emergency Response Policies

—IEA Oil Data Reporting System and Oil Emergency Data Collection

—Oil Information and Data Collection in China

IV. Oil Disruption and Response Simulation Exercise

—Replay of the Video Presentation of a Hypothetical Disruption Scenario

—Oil Disruption and Response Simulation Exercise

—Presentation on the Lessons Learned from Previous IEA Emergency Response Simulation Exercises

—Key Points Learned from Today's Simulation Exercise

—Case Study of the U.S. Oil Disruption Simulation Model

V. IEA Members' Experience in Emergency Response

—Overview of Oil Emergency Procedures and Measures in IEA Countries

—Japan's Experience in Emergency Response

—The UK's Experience in Emergency Response

Tuesday, December 10, 2002

I. Introduction

II. IEA Experiences in Building Oil Stockholding Facilities

—German Experiences in Building the German Independent Stockholding Agency (EBV)

—Hungarian Experiences in Establishing the Crude Oil and Oil Product Stockholding Association (KKKSZ)

—Korean Experience in Building Emergency Oil Stocks by Utilization of Stocks and Facilities

—SINOPEC Experience in Building Oil Stockholding Facilities and Managing Commercial Stocks

III. Technical and Operational Aspects of Emergency Stockholding

—U.S. Experience in the Operation of the Strategic Petroleum Reserve

—Budget and Operation of a Government Stockholding Agency

—French Government Experience with the Government-Industry Relationship in the Professional Committee for Strategic Petroleum Stocks (CPSSP)

—A Major Oil Company's Experience in Managing Commercial and Strategic Oil Stocks

—CNPC/PetroChina's Experience with the Technical and Operational Aspects of Emergency and Commercial Oil Stockholding

V. Summary and Closing Remarks

As provided in section 252(c)(1)(A)(ii) of the Energy Policy and Conservation Act (42 U.S.C. 6272(c)(1)(A)(ii)), this meeting is open only to representatives of members of the IAB and their counsel; representatives of members of the SEQ; representatives of the Departments of Energy, Justice, and State, the Federal Trade Commission, the General Accounting Office, Committees of Congress, the IEA, and the European Commission; and invitees of the IAB, the SEQ, or the IEA.

Issued in Washington, DC, November 25, 2002.
Samuel M. Bradley,
Assistant General Counsel for International and National Security Programs.

[FR Doc. 02-30411 Filed 11-29-02; 8:45 am]

BILLING CODE 6450-01-P